NATIONAL SCIENCE FOUNDATION

Privacy Act of 1974; System of Records

ACTION: Notice of proposed revisions to an existing Privacy Act system of records NSF-66: NSF Photo Identification Card System.

SUMMARY: The National Science Foundation proposes to revise an existing systems of records titled “NSF Photo Identification Card System (NSF-66),” last published on August 21, 1998 (64 FR 44937).

The system of records is being revised to describe the additional types of information being collected by NSF as required by Homeland Security Presidential Directive 12 (Policy for a Common Identification Standard for Federal Employees and Contractors). This system collects information to produce photo identification cards for access to NSF facilities as well as for building security, for identifying the bearer of the card as a Federal employee or contractor, for changing access permissions on cards, and for tracking stolen or lost cards. The identity credential/ID card permits entry into NSF facilities.

44 U.S.C. 3101 and 42 U.S.C. 1870; Homeland Security Presidential Directive 12 (HSPD-12) dated August 2004, mandates a common identity standard for Federal employees and contractors on duty for more than 6 months.

DATES: Submit comments on or before December 1, 2006.

ADDRESSES: Address all comments concerning this notice to Leslie Jensen, National Science Foundation, Office of the General Counsel, Room 1265, 4201 Wilson Boulevard, Arlington, Virginia 22230 or by sending electronic mail (e-mail) to ljensen@nsf.gov.

SUPPLEMENTARY INFORMATION: This publication is in accordance with the Privacy Act requirement that agencies publish their amended systems of records in the Federal Register when there is a revision, change, or addition. NSF's Office of the General Counsel (OGC) has reviewed its Systems of Records notice and has determined that its records system, NSF-66 must be revised to incorporate the changes described herein.

Submit comments as an ASCII file avoiding the use of special characters and any form of encryption. Identify all comments sent in electronic E-mail with Subject Line: Comments to proposed changes.

FOR FURTHER INFORMATION CONTACT: Leslie Jensen (703) 292-5065.

Words of Issuance

For the reasons stated in the preamble, the National Science Foundation is revising “NSF Photo Identification Card System (NSF-66),” to describe the additional types of information being collected by NSF as required by Homeland Security Presidential Directive 12 (Policy for a Common Identification Standard for Federal Employees and Contractors).

National Science Foundation

System Name:

NSF Photo Identification Card System (NSF-66).

System Location:

National Science Foundation, Division of Administrative Services, 4201 Wilson Blvd., Arlington, VA 22230; and XTec, Incorporated, 5775 Blue Lagoon Dr., Suite 280, Miami, Florida 33126-2034.

Categories of Individuals Covered by the System:

NSF employees and NSF contractors employed for more than 6 months who require routine physical access to NSF controlled space at Stafford Place I and II must have a photo ID credential. Child Development Center staff and non-NSF parents of children in the Center are also in the database.

Categories of Records in the System:

Name, digital photograph, Social Security Number, date of birth, LAN ID, card number, fingerprints, affiliation (i.e., employee, contractor or associate), citizenship, expiration date, PIN number, card issue date, FASC-N, credential status, building name, sponsor name, sponsor email, room number, COTR name, background investigation type, initiation date, adjudication date, fingerprint adjudication date, contract end date.

Authority for Maintenance of the System:

44 U.S.C. 3101 and 42 U.S.C. 1870. Other authorities include: Homeland Security Presidential Directive 12 (HSPD-12) dated August 2004, which mandates a common identity standard for Federal employees and contractors onboard for more than six months.

Federal Information Processing Standard (FIPS) 201-1 dated March 2006, describing implementation requirements for HSPD-12 Presidential Order dated June 28, 1995, subject: “Upgrading Security at Federal Facilities” which directs that all federal agencies shall meet the minimum security standards recommended by the Department of Justice in their report entitled, Vulnerability Assessment of Federal Facilities. The report establishes “agency photo ID for all personnel displayed at all times” as a minimum standard for Level IV facilities. NSF has been designated as a Level IV facility. 5 U.S.C 301.

Purpose(s):

The information is used for producing photo identification cards for access to the building as well as for building security, for identifying the bearer of the card as a Federal employee or contractor, for changing access permissions on cards, and for tracking stolen or lost cards. The identity credential/ID card permits entry into NSF facilities.

Routine Uses of Records Maintained in the System, Including Categories of Uses and the Purposes of Such Uses:

Information from this system may be disclosed to:

1. Individuals, as necessary, for tracking stolen or lost identification cards.

2. The Department of Justice, to the extent disclosure is compatible with the purpose for which the record was collected, and is relevant and necessary to litigation or anticipated litigation, in which one of the following is a party or has an interest: (a) NSF or any of its components; (b) an NSF employee in his/her official capacity; (c) an NSF employee in his/her individual capacity when the Department of Justice is representing or considering representing the employee; or (d) the United States, when NSF determines that litigation is likely to affect the Agency.

3. Contractors, experts, advisors, grantees, volunteers or other individuals who perform a service to or work on or under a contract or other arrangement with or for the Federal government, as necessary to carry out their duties. Recipients shall be required to comply with the requirements of the Privacy Act of 1974, as amended 5 U.S.C. Sec. 552a.

4. Appropriate Federal, State, or local agencies responsible for investigating, prosecuting, enforcing, or implementing a statute, rule, regulation, or order, to disclose pertinent information when the NSF becomes aware of an indication of a violation or potential violation of civil or criminal law or regulation.

5. To the National Archives and Records Administration or to the General Services Administration who are conducting records management inspections under the authority of 44 U.S.C. 2904 and 2906.

6. To notify another Federal agency when, or verify whether, a PIV card is no longer valid.

7. To a Member of Congress or to a Congressional staff member in response to an inquiry of the Congressional office made at the written request of the constituent about whom the record is maintained.

Policies and Practices for Storing, Retrieving, Accessing, Retaining, and Disposing of Records in the System:

Storage:

Stored electronically.

Retrievability:

Records may be retrieved by name, last name, user ID, e-mail address, Social Security Number, card number and card access point.

Safeguards:

Information access is controlled by password and restricted to a limited number of authorized users who require access because of their NSF position duties. Input devices and servers are stored in locked rooms.

Retention and disposal:

Information is retained on all current employees and contractors throughout their employment/contract service. Separating employees and contractors return their identification cards when they are no longer employed by the agency. Their records will be deleted or destroyed after three months. Records on building access are retained for 90 days.

System manager(s) and address:

Division Director, Division of Administrative Services, 4201 Wilson Boulevard, Arlington, VA 22230.

Notification procedure:

The Privacy Act Officer should be contacted in accordance with procedures found at 45 CFR part 613.2.

Record access procedures:

See “Notification” above.

Contesting record procedures:

The Privacy Act Officer should be contacted in accordance with procedures found at 45 CFR 613.4.

Record source categories:

Information in the System is obtained from a variety of sources to include the employee, contractor, Administrative Officer or COTR.

System exemptions from certain provisions of the Act:

None.

Lawrence Rudolph,
General Counsel.

[FR Doc. E6-18213 Filed 10-31-06; 8:45 am]

BILLING CODE 7555-01-P